AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration. This meeting will occur at the USADF office.

DATES: The meeting date is Tuesday, February 9, 2021, 10 a.m. to 11:30 a.m.

ADDRESSES: The meeting will be held by teleconference. Please contact the Agency Contact listed below for conference details.

FOR FURTHER INFORMATION CONTACT: Nina-Belle Mbayu, (202) 233-8808, nbmbayu@usadf.gov.

(Authority: Public Law 96-533 (22 U.S.C. 290h))

Dated: February 1, 2021.
Nina-Belle Mbayu,
Acting General Counsel.

[FR Doc. 2021-02321 Filed 2-3-21; 8:45 am]

BILLING CODE 6117-01-P